DEPARTMENT OF JUSTICE

Notice of Filing Settlement Agreement Under the Comprehensive Environmental Response, Compensation and Liability Act (CERCLA)

Notice is hereby given that on or about July 21, 2004, a proposed Settlement Agreement in In re: Franklin Environmental Services, Inc., Case No. 02-17897-CJK, was filed pursuant to Fed. R. Bank. Proc. 9019 with the United States Bankruptcy Court for the District of Massachusetts, Eastern Division.

The proposed Settlement Agreement resolves a claim asserted in this Chapter 11 bankruptcy proceeding by the United States on behalf of the United States Environmental Protection Agency (“EPA”) for reimbursement of response costs incurred or to be incurred by EPA at the Beede Waste Oil Superfund Site (“Beede Site”), located in Plaistow, New Hampshire, from Franklin Environmental Services, Inc. (“Franklin”). The United States alleged Franklin was liable as a transporter under section 107(a)(4) of CERCLA, 42 U.S.C. 9606(a)(4).

The United States and Franklin have agreed under the Settlement Agreement that the United States' claim shall be allowed as an Unsecured Claim in the amount of $346,737.17, and paid as a Class 3 Unsecured Claim without discrimination in accordance with the terms of the Bankruptcy Plan.

The Department of Justice will receive for a period of thirty (30) days from the date of this publication comments relating to the Settlement Agreement. Comments should be addressed to the Assistant Attorney General, Environment and Natural Resources Division, P.O. Box 7611, U.S. Department of Justice, Washington, DC 20044-7611, and should refer to In re: Franklin Environmental Services, Inc., Case No. 02-17897-CJK, D.J. Ref. # 90-11-3-07039/6.

The Settlement Agreement may be examined at the Office of the United States Attorney, United States Courthouse, One Courthouse Way, Boston, MA 02210, and at U.S. EPA New England—Region One, One Congress Street, Suite 1100, Boston, MA 02114-2023. During the public comment period, the Settlement Agreement, may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.00 (25 cents per page reproduction cost) payable to the U.S. Treasury.

Ronald Gluck,
Assistant Chief, Environmental Enforcement Section, Environment and Natural Resources Division.

[FR Doc. 04-18945 Filed 8-17-04; 8:45 am]

BILLING CODE 4410-15-M